DEPARTMENT OF TRANSPORTATION

Surface Transportation Board

[Docket No. FD 35594]

Eric Temple—Control Exemption—Portland Vancouver Junction Railroad, LLC

AGENCY: Surface Transportation Board.

ACTION: Correction to Notice of Exemption.

On February 6, 2012, Eric Temple (applicant), a noncarrier individual, filed with the Surface Transportation Board a verified notice of exemption to acquire direct control of Portland Vancouver Junction Railroad, LLC (PVJR), a wholly owned subsidiary of Columbia Basin Railroad Company, Inc. (CBRW), upon his acquiring 100% of the membership interest in PVJR. On February 22, 2012, notice of the exemption was served and published in the Federal Register (77 FR 10,618). The exemption became effective on March 7, 2012.

On April 24, 2012, applicant filed a letter with the Board advising that the notice incorrectly states that CBRW, which is an entity controlled by applicant and Nicholas B. Temple, leases and operates its rail lines. This notice corrects that statement. According to applicant, CBRW owns and operates approximately 74 miles of rail line, and has trackage rights over approximately 13 miles of rail line.¹ All other information in the notice is correct.

¹ See Columbia Basin R.R—Acquis. and Operation Exemption—BNSF Ry. & BNSF Acquis., FD 35066 (STB served Nov. 16, 2007).

Board decisions and notices are available on our Web site at “WWW.STB.DOT.GOV.”

Decided: May 25, 2012.
By the Board, Rachel D. Campbell, Director, Office of Proceedings.
Derrick A. Gardner,
Clearance Clerk.

[FR Doc. 2012-13538 Filed 6-4-12; 8:45 am]

BILLING CODE 4915-01-P